DEPARTMENT OF COMMERCE

Foreign-Trade Zones Board

[Order No. 1160]

Expansion of Foreign-Trade Zone 34, Niagara County, NY

Pursuant to its authority under the Foreign-Trade Zones Act of June 18, 1934, as amended (19 U.S.C. 81a-81u), the Foreign-Trade Zones (FTZ) Board (the Board) adopts the following Order:

Whereas, the County of Niagara, New York, grantee of Foreign-Trade Zone 34, submitted an application to the Board for authority to expand FTZ 34 to include an additional parcel (158 acres) at Vantage International Pointe Industrial Park in Wheatfield, New York, within the Buffalo Customs port of entry (FTZ Docket 37-2000; filed 7/17/00);

Whereas, notice inviting public comment was given in the Federal Register (65 FR 45752, 7/25/00) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 34 is approved, subject to the Act and the Board's regulations, including Section 400.28.

Signed at Washington, DC, this 5th day of April 2001.
Timothy J. Hauser,
Acting Under Secretary for International Trade, Alternate Chairman, Foreign-Trade Zones Board.
Dennis Puccinelli,
Executive Secretary.

[FR Doc. 01-9374 Filed 4-13-01; 8:45 am]

BILLING CODE 3510-DS-P